DEPARTMENT OF COMMERCE

International Trade Administration

[A-570-001]

Potassium Permanganate From the People's Republic of China: Rescission of Antidumping Duty New Shipper Review

AGENCY: Import Administration, International Trade Administration, Department of Commerce.

ACTION: Notice of rescission of the antidumping duty new shipper review of potassium permanganate from the People's Republic of China.

SUMMARY: On January 3, 2002, the Department of Commerce (Department) published the preliminary results of the new shipper review of the antidumping duty order on potassium permanganate from the People's Republic of China (PRC). This review covers one manufacturer/exporter. The period of review (POR) is January 1, 2000 through December 31, 2000. For the reasons discussed below, we are rescinding this review.

EFFECTIVE DATE: June 3, 2002.

FOR FURTHER INFORMATION CONTACT: John Conniff or Chris Brady, AD/CVD Enforcement Group II, Office 4, Import Administration, International Trade Administration, Department of Commerce, 14th Street and Constitution Avenue, NW., Washington, DC 20230, telephone: (202) 482-1009 and (202) 482-4406, respectively.

SUPPLEMENTARY INFORMATION:

Applicable Statute and Regulations

Unless otherwise indicated, all citations to the Tariff Act of 1930, as amended, (the Act)are references to the provisions effective January 1, 1995, the effective date of the amendments made to the Act by the Uruguay Round Agreements Act. In addition, unless otherwise indicated, all citations to the Department's regulations are to the regulations at 19 CFR part 351 (2001).

Scope of the Review

Imports covered by this review are shipments of potassium permanganate, an inorganic chemical produced in free-flowing, technical, and pharmaceutical grades. During the review period, potassium permanganate was classifiable under item 2841.60.0010 of the Harmonized Tariff Schedule (HTS). The HTS item number is provided for convenience and Customs purposes. The written description remains dispositive.

Background

On January 3, 2002, the Department published in the Federal Register its notice of the preliminary results of the new shipper review of potassium permanganate from the PRC. See Potassium Permanganate From the People's Republic of China: Preliminary Results of Antidumping Duty New Shipper Review, 67 FR 303. In that notice, we invited interested parties to comment on our preliminary results. Since publication of this notice, the following significant events have occurred.

On March 19, 2002, Carus Chemical Company (Carus) (petitioner) submitted evidence that the business license which Groupstars Chemical Co. Ltd. (Groupstars) (respondent) placed on the record in this review had been altered. Although this information was submitted after the deadline for submitting factual information in this review (June 25, 2001), the Department accepted it because of its relevance to respondent's status as a new shipper. See Memorandum to the File from John Conniff: Submission of New Information and Schedule for Case Briefs and Hearing (April 1, 2002). On April 10, 2002, petitioner and respondent submitted case briefs regarding the preliminary results of this review. On April 17, 2002, petitioner submitted rebuttal comments to the Department. On April 19, 2002, the respondent withdrew its request for a new shipper review. On May 16, 2002, the Department issued a memorandum that proposed rescission of this new shipper review. See Memorandum to Bernard Carreau from Holly A. Kuga: Rescission of New Shipper Review (May 16, 2002) (Rescission Memorandum). We invited interested parties to submit comments regarding this memorandum by no later than May 20, 2002. No parties submitted comments.

Rescission of Review

As noted above, information has been placed on the record which calls into question the status of Groupstars as a new shipper. This information indicates that Groupstars' business license, as submitted to the Department, is altered from its original form. Moreover, Groupstars did not make all of the certifications required in a new shipper review under section 351.214(b)(2)(ii)(B) of the Department's regulations. Finally, both the petitioner and the respondent have requested that the Department rescind this new shipper review. Therefore, we are rescinding this new shipper review. See Rescission Memorandum.

Notification

This notice serves as the only reminder to parties subject to administrative protective orders (APO) of their responsibility concerning the disposition of proprietary information disclosed under APO in accordance with 19 CFR 351.305(a)(3). Timely written notification of the return/destruction of APO material or conversion to judicial protective order is hereby requested. Failure to comply with the regulations and terms of an APO is a violation which is subject to sanctions.

We are issuing and publishing this determination and notice in accordance with sections 751(a)(2)(B) and 777(i) of the Act.

Dated: May 23, 2002.
Bernard T. Carreau,
Acting Assistant Secretary for Import Administration.

[FR Doc. 02-13839 Filed 5-31-02; 8:45 am]

BILLING CODE 3510-DS-S